DEPARTMENT OF DEFENSE

Office of the Secretary

[Transmittal No. 20-0D]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, and Transmittal 20-0D.

Dated: February 25, 2020.
Aaron T. Siegel,
Alternate OSD Federal Register Liaison Officer, Department of Defense.

BILLING CODE 5001-06-P

Transmittal No. 20-0D

REPORT OF ENHANCEMENT OR UPGRADE OF SENSITIVITY OF TECHNOLOGY OR CAPABILITY (SEC. 36(B)(5)(C), AECA)

(i) Prospective Purchaser: Republic of Singapore

(ii) Sec. 36(b)(1), AECA Transmittal No.: 14-16

Date: June 16, 2014

Military Department: Air Force

(iii) Description: On June 16, 2014, Congress was notified by Congressional Notification Transmittal Number 14-16, of the possible sale under Section 36(b)(1) of the Arms Export Control Act, to the Government of Singapore of follow-on support and services for Singapore's Continental United States (CONUS) detachment PEACE CARVIN II (F-16) based at Luke Air Force Base (AFB) for a five-year period. It included 80 CATM-9M Captive Air Training Missiles, jet fuel, containers, publications and technical documentation, tactics manuals and academic instruction, maintenance, clothing and individual equipment, execution and support of CONUS exercise deployments, airlift and aerial refueling, support equipment, spare and repair parts, repair and return, personnel training and training equipment, U.S. Government and contractor technical and logistics support services, and other related elements of logistical and program support. The estimated total cost was $251 million.

This transmittal reports the extension of the PEACE CARVIN II detachment at Luke Air Force Base for an additional three and a half years (3.5 years). It includes the following non-MDE items: eight (8) CATM-9M Captive Air Training Missiles, jet fuel, containers, publications and technical documentation, tactics manuals and academic instruction, maintenance, clothing and individual equipment, execution and support of CONUS exercise deployments, airlift and aerial refueling, support equipment, spare and repair parts, repair and return, personnel training and training equipment, U.S. Government and contractor technical and logistics support services, and other related elements of logistical and program support. The estimated additional non-MDE cost is $200 million, increasing the total program value to $451 million.

(iv) Significance: This notification is being provided for an additional 3.5 years of training for the PEACE CARVIN II detachment at Luke Air Force Base, AZ. Continued training will maintain the decades-long U.S.-Singapore partnership. By maintaining this relationship, the U.S. ensures it will have a well-trained and more interoperable partner to contribute to regional stability in Southeast Asia. Additionally, Singapore will have the ability to deploy to other regions to support U.S. and Singapore goals as they have demonstrated numerous times with other aircraft deployments in support of coalition operations.

(v) Justification: This proposed sale will support the foreign policy and national security of the United States by helping to improve the security of a friendly country that is an important force for economic progress in Southeast Asia. The continuation of this training program will enable Singapore to develop mission-ready and experienced F-16 pilots and enhance operational interoperability with U.S. forces.

(vi) Sensitivity of Technology: The Sensitivity of Technology statement contained in the original notification applies to items reported here.

(vii) Date Report Delivered to Congress: February 11, 2020

[FR Doc. 2020-04144 Filed 2-27-20; 8:45 am]

BILLING CODE 5001-06-C